DEPARTMENT OF ENERGY

Federal Energy Regulatory Commission

[Docket No. CP05-45-000]

TransColorado Gas Transmission Company; Notice of Application

January 12, 2005.

Take notice that on January 6, 2005, TransColorado Gas Transmission Company (TransColorado), whose mailing address is P.O. Box 281304, Lakewood, Colorado 80228-8304, filed an application in Docket No. CP05-45-000 pursuant to section 7(c) of the Natural Gas Act (NGA), and part 157 of the Federal Energy Regulatory Commission's (Commission) Regulations, requesting a certificate of public convenience and necessity authorizing the construction and operation of compression, minor piping, metering and ancillary facilities, referred to as the “North Expansion Project.” This filing is available for review at the Commission or may be viewed on the Commission's Web site at http://www.ferc.gov using the “eLibrary” link under the tab “Documents & Filing.” Enter the docket number excluding the last three digits in the docket number field to access the document. For assistance, please contact FERC Online Support at FERCOnlineSupport@ferc.gov or toll free at (866) 208-3676, or for TTY, contact (202) 502-8659.

Any questions regarding this application should be directed to Skip George, Manager of Certificates, TransColorado Gas Transmission Company, P.O. Box 281304, Lakewood, Colorado 80228-8304, phone (303) 914-4969.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions via the Internet in lieu of paper. See, 18 CFR 385.2001(a)(1)(iii) and the instructions on the Commission's Web site (http://www.ferc.gov) under the “e-Filing” link.

Comment Date: February 1, 2005.

Magalie R. Salas,
Secretary.

[FR Doc. E5-233 Filed 1-21-05; 8:45 am]

BILLING CODE 6717-01-P